DEPARTMENT OF COMMERCE

Foreign-Trade Zones Board

Docket 17-2007

Foreign-Trade Zone 124 - Gramercy, LA, Application for Subzone Status, Candies Shipbuilders, L.L.C., (Shipbuilding)

An application has been submitted to the Foreign-Trade Zones Board (the Board) by the Port of South Louisiana Commission, grantee of FTZ 124, requesting special-purpose subzone status for the shipbuilding facility of Candies Shipbuilders, L.L.C. (Candies), in Houma, Louisiana. The application was submitted pursuant to the provisions of the Foreign-Trade Zones Act, as amended (19 U.S.C. 81a-81u), and the regulations of the Board (15 CFR Part 400). It was formally filed on April 20, 2007.

The Candies shipyard (45 acres) is located at 1100 Oak Street in Houma (Terrebonne Parish), Louisiana, about 45 miles southwest of New Orleans. The facility (139 employees) is used for the construction, fabrication, and repair of oceangoing vessels for domestic and international customers. Foreign components that may be used at the Candies shipyard (representing about 15%% of finished vessel value) may include bulb flats, windows, doors and watertight doors, engines, winches, anchors, sanitary units, manholes, dynamic positioning systems, electronics, wiring sets and cable (duty rate range: free - 5.0%%, ad valorem).

FTZ procedures would exempt Candies from Customs duty payments on the foreign components used in export activity. On its domestic sales, the company would not be required to pay applicable Customs duties on the foreign components, or it would be able to elect the duty rate that applies to finished oceangoing vessels (duty free) for the foreign components when the vessels are processed for Customs entry. The manufacturing activity conducted under FTZ procedures would be subject to the “standard shipyard restriction” applicable to foreign-origin steel mill products (e.g., angles, pipe, plate), which requires that full Customs duties be paid on such items. The application indicates that the savings from FTZ procedures would help improve the facility's international competitiveness.

In accordance with the Board's regulations, a member of the FTZ Staff has been designated examiner to investigate the application and report to the Board.

Public comment is invited from interested parties. Submissions (original and 3 copies) shall be addressed to the Board's Executive Secretary at the address below. The closing period for their receipt is June 29, 2007. Rebuttal comments in response to material submitted during the foregoing period may be submitted during the subsequent 15-day period to July 16, 2007.

A copy of the application and accompanying exhibits will be available for public inspection at each of the following locations: U.S. Department of Commerce Export Assistance Center, Suite 2710, 2 Canal Street, New Orleans, LA 70130; and, the Office of the Executive Secretary, Foreign-Trade Zones Board, Room 2814B, U.S. Department of Commerce, 1401 Constitution Avenue, NW., Washington, DC 20230-0002.

For further information, contact Pierre Duy, examiner at: pierre_duy@ita.doc.gov, or (202)482-1378.

Dated: April 20, 2007.
Andrew McGilvray,
Executive Secretary.

[FR Doc. E7-8201 Filed 4-27-07; 8:45 am]

BILLING CODE 3510-DS-S